DEPARTMENT OF ENERGY

Federal Energy Regulatory Commission

[Project No. 12717-001]

Northern Illinois Hydropower, LLC; Notice of Intent To File License Application, Filing of Pre-Application Document, and Approval of Use of the Traditional Licensing Process

August 21, 2008.

a. Type of Filing: Notice of Intent to File License Application and Request to Use the Traditional Licensing Process.

b. Project No.: 12717-001.

c. Date Filed: July 16, 2008.

d. Submitted By: Northern Illinois Hydropower, LLC.

e. Name of Project: Brandon Road Hydroelectric Project.

f. Location: The project would be located at the U.S. Corps of Engineers Brandon Road Lock and Dam, on the Des Plaines River in Will County, Illinois.

g. Filed Pursuant to: 18 CFR 5.3 of the Commission's regulations.

h. Applicant Contact: Damon Zdunich, President, Northern Illinois Hydropower, LLC, 801 Oakland Avenue, Joliet, IL 60435, (312) 408-4353.

i. FERC Contact: Michael Spencer, (202) 502-6093.

j. Northern Illinois Hydropower, LLC filed its request to use the Traditional Licensing Process on July 16, 2008. Northern Illinois Hydropower, LLC filed public notice of its request on August 4, 2008. In a letter dated August 20, 2008, the Director of the Office of Energy Projects approved Northern Illinois Hydropower, LLC's request to use the Traditional Licensing Process.

k. With this notice, we are initiating informal consultation with: (a) the U.S. Fish and Wildlife Service under section 7 of the Endangered Species Act; and (b) the Illinois State Historic Preservation Officer, as required by section 106, National Historical Preservation Act, and the implementing regulations of the Advisory Council on Historic Preservation at 36 CFR 800.2.

l. Northern Illinois Hydropower, LLC filed a Pre-Application Document (PAD; including a proposed process plan and schedule) with the Commission, pursuant to 18 CFR 5.6 of the Commission's regulations.

m. A copy of the PAD is available for review at the Commission in the Public Reference Room or may be viewed on the Commission's Web site (http://www.ferc.gov), using the “eLibrary” link. Enter the docket number, excluding the last three digits in the docket number field to access the document. For assistance, contact FERC Online Support at FERCOnlineSupport@ferc.gov or toll free at 1-866-208-3676, or for TTY, (202) 502-8659. A copy is also available for inspection and reproduction at the address in paragraph h.

Register online at http://ferc.gov/docs-filing/esubscription.asp to be notified via e-mail of new filing and issuances related to this or other pending projects. For assistance, contact FERC Online Support.

Kimberly D. Bose,
Secretary.

[FR Doc. E8-19933 Filed 8-27-08; 8:45 am]

BILLING CODE 6717-01-P